DEPARTMENT OF TRANSPORTATION

National Highway Traffic Safety Administration

Petition To Modify an Exemption of a Previously Approved Antitheft Device; General Motors Corporation

AGENCY: National Highway Traffic Safety Administration (NHTSA) Department of Transportation (DOT).

ACTION: Grant of a petition to modify an exemption from the parts marking requirements of a previously approved antitheft device.

SUMMARY: On May 15, 1995, this agency granted in full General Motors Corporation's (GM) petition for exemption from the parts-marking requirements of the vehicle theft prevention standard for the Chevrolet Lumina and Monte Carlo vehicle line (see 60 FR 25938). On March 29, 1999, the agency granted in full GM's petition for modification of the previously approved antitheft device for the Chevrolet Lumina and Monte Carlo vehicle line. This notice (see 60 FR 25938) acknowledged GM's notification that the nameplate for its Chevrolet Lumina/Monte Carlo line would be changed to the Chevrolet Impala/Monte Carlo line beginning with model year (MY) 2000. This notice also grants in full GM's second petition to modify the exemption of the previously approved antitheft device for that line. NHTSA is granting GM's petition to modify the exemption because it has determined, based on substantial evidence, that the modified antitheft device described in GM's petition to be placed on the vehicle line as standard equipment, is likely to be as effective in reducing and deterring motor vehicle theft as compliance with the parts-marking requirements.

DATES: The exemption granted by this notice is effective beginning with model year (MY) 2006.

FOR FURTHER INFORMATION CONTACT: Ms. Rosalind Proctor, Office of International Policy, Fuel Economy and Consumer Programs, NHTSA, 400 Seventh Street, SW., Washington, DC 20590. Ms. Proctor's telephone number is (202) 366-0846. Her fax number is (202) 493-2290.

SUPPLEMENTARY INFORMATION: On May 15, 1995, NHTSA published in the Federal Register a notice granting a petition from GM for an exemption from the parts-marking requirements of the vehicle theft prevention standard for the Chevrolet Lumina (and Monte Carlo) vehicle line beginning with the 1996 model year. The Chevrolet Lumina (and Monte Carlo) was equipped with the PASS-Key II antitheft device (see 60 FR 25938). On March 29, 1999, NHTSA published in the Federal Register a notice granting in full GM's petition for modification of the previously approved PASS-Lock antitheft device for the Chevrolet Lumina and Monte Carlo vehicle line beginning with the 2000 model year. Additionally, GM informed the agency of its planned nameplate change for the Chevrolet Lumina and Monte Carlo to the Chevrolet Impala/Monte Carlo beginning with model year (MY) 2000 (see 64 FR 14963).

This notice grants in full GM's February 15, 2005 second petition to modify the exemption of the previously approved antitheft device for the MY 2006 Chevrolet Impala/Monte Carlo. GM's February 15, 2005 submission is a complete petition, as required by 49 CFR part 543.9(d), in that it meets the general requirements contained in 49 CFR part 543.5 and the specific content requirements of 49 CFR part 543.6. GM's petition provides a detailed description of the identity, design and location of the components of the antitheft system proposed for installation beginning with the 2006 model year.

GM described the MY 1996 device (PASS-Key II) installed on the Impala/Monte Carlo as a passively activated device. It also stated that the device utilized an electrically-coded ignition key, an ignition lock-cylinder and a decoder module. GM stated that the MY 2000 device (PASS-Lock) provides the functionality of its “PASS-Key” devices but features a coded-lock cylinder instead of an electrically-coded ignition key. When the electronic sensor detects proper lock rotation, it sends a code to the body function controller. If the correct code is received, the controller enables fuel and starting of the vehicle. If an incorrect code is received, the controller disables fuel and starting of the vehicle.

In GM's MY 2006 petition to modify the exemption, it stated that the Chevrolet Impala/Monte Carlo vehicle line will be equipped with the PASS-Key III+ theft deterrent device. The PASS-Key III+ device will continue to provide protection against unauthorized starting and fueling of the vehicle device. Components of the modified antitheft device include a special ignition key and decoder module. The conventional mechanical code of the key will continue to unlock and release the transmission lever. Before the vehicle can be operated, the key's electrical code must be recognized and properly decoded by the PASS-Key III+ control module. The ignition key will contain electronics molded into the head of the key. The device's electronics receive energy from the control module, and upon receipt of the data, the key will calculate a response to the data using secret information and an internal encryption algorithm. The response will then be transmitted back to the vehicle.

The controller module translates the radio frequency signal received from the key into a digital signal and compares the received response to an internally calculated value. If the values match, the key is recognized as valid, and a vehicle security password (one of 65,534), is transmitted through a serial data link to the engine control module to enable fuel and starting of the vehicle. If an invalid key code is received, the PASS-Key III+ controller module will send a disable password to the engine control module through the serial data bus, and starting, ignition and fuel will be inhibited. In the event the engine control module does not receive a password signal from the PASS-Key III+ controller, engine operation will remain inhibited. GM also stated that the PASS-Key III+ device has the capability of producing billions of codes, requiring centuries for someone to scan through them to allow theft of a vehicle.

GM stated that although its modified antitheft device provides protection against unauthorized starting and fueling of the vehicle, it does not provide any visible or audible indication of unauthorized entry by means of flashing vehicle lights or sounding of the horn. Since the system is fully operational once the vehicle has been turned off, specific visible or audible reminders beyond key removal reminders have not been provided.

Based on comparison of the reduction in the theft rates of GM vehicles using a passive theft deterrent device with an audible/visible alarm system to the reduction in theft rates for GM vehicle models equipped with a passive antitheft device without an alarm, GM finds that the lack of an alarm or attention attracting device does not compromise the theft deterrent performance of a system such as PASS-Key III+. The agency has previously agreed with the finding that the absence of a visible or audible alarm has not prevented these antitheft devices from being effective protection against theft.

In order to ensure the reliability and durability of the device, GM conducted tests based on its own specified standards. GM provided a detailed list of tests conducted and believes that its device is reliable and durable since the device complied with its specified requirements for each test. The tests conducted included high and low temperature storage, thermal shock, humidity, frost, salt fog, flammability, altitude, drop, shock, random vibration, dust, potential contaminants, connector retention/strain relief, terminal retention, connector insertion, crush, ice, immersion and tumbling. Additionally, GM stated that the design and assembly processes of the PASS-Key III+ device and components are validated for a vehicle life of 10 years and 150,000 miles of performance.

GM compared its MY 2006 antitheft device with devices which NHTSA has already determined to be as effective in reducing and deterring motor vehicle theft as would compliance with the parts-marking requirements. To substantiate its beliefs as to the effectiveness of the new device, GM compared the MY 2006 modified device to its “PASS-Key”-like systems. GM indicated that the theft rates, as reported by the Federal Bureau of Investigation's National Crime Information Center, are lower for GM models equipped with the “PASS-Key”-like systems which have exemptions from the parts-marking requirements of 49 CFR part 541, than the theft rates for earlier models with similar appearance and construction which were parts-marked. Based on the performance of the PASS-Key, PASS-Key II, and PASS-Key III systems on other GM models, and the advanced technology utilized by the modification, GM believes that the MY 2006 modified antitheft device will be more effective in deterring theft than the parts-marking requirements of 49 CFR part 541.

On the basis of this comparison, GM stated the antitheft device (PASS-Key III+) for model years 2006 and later will provide essentially the same functions and features as found on its MY 1996-2005 “PASS-Key”-like devices and therefore, its modified device will provide at least the same level of theft prevention as parts-marking. GM believes that the antitheft device proposed for installation on its MY 2006 Chevrolet Impala/Monte Carlo vehicle line is likely to be as effective in reducing thefts as compliance with the parts-marking requirements of part 541.

The agency has evaluated GM's MY 2006 petition to modify the exemption for the Chevrolet Impala/Monte Carlo vehicle line from the parts-marking requirements of 49 CFR part 541, and has decided to grant it. It has determined that the PASS-Key III+ system is likely to be as effective as parts-marking in preventing and deterring theft of these vehicles, and therefore qualifies for an exemption under 49 CFR part 543. The agency believes that the modified device will continue to provide four of the five types of performance listed in Section 543.6(b)(3): promoting activation; preventing defeat or circumventing of the device by unauthorized persons; preventing operation of the vehicle by unauthorized entrants; and ensuring the reliability and durability of the device.

NHTSA suggests that if the manufacturer contemplates making any changes the effects of which might be characterized as de minimis, it should consult the agency before preparing and submitting a petition to modify.

Authority: 49 U.S.C. 33106; delegation of authority at 49 CFR 1.50.

Issued on: April 14, 2005.
Stephen R. Kratzke,
Associate Administrator for Safety Performance Standards.

[FR Doc. 05-7814 Filed 4-19-05; 8:45 am]

BILLING CODE 4910-59-P